DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of February 3, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: September 12, 2016.
Roy E. Wright,
Deputy Associate Administrator for Insurance and Mitigation, Department of Homeland Security, Federal Emergency Management Agency.

I. Watershed-based studies:

Community | Community map repository address
Lower Suwannee Watershed
Levy County, Florida and Incorporated Areas
Docket No.: FEMA-B-1523
Unincorporated Areas of Levy County | Levy County Building Department, 622 East Hathaway Avenue, Bronson, FL 32621.
Madison County, Florida and Incorporated Areas
Docket No.: FEMA-B-1523
Unincorporated Areas of Madison County | Madison County Building Department, 229 Southwest Pinckney Street, Madison, FL 32340.
Suwannee County, Florida and Incorporated Areas
Docket No.: FEMA-B-1523
Unincorporated Areas of Suwannee County | Suwannee County Planning and Zoning and Floodplain Management Office, 224 Pine Avenue Southwest, Live Oak, FL 32064.

II. Non-watershed-based studies:

Community | Community map repository address
Lubbock County, Texas and Incorporated Areas
Docket No.: FEMA-B-1539
City of Lubbock | City Hall, 1625 13th Street, Lubbock, TX 79401.
City of Wolfforth | City Hall, 302 Main Street, Wolfforth, TX 79382.
Unincorporated Areas of Lubbock County | Lubbock County Courthouse, 904 Broadway, Suite 101, Lubbock, TX 79401.
Grays Harbor County, Washington and Incorporated Areas
Docket No.: FEMA-B-1282 and B-1415
City of Aberdeen | City Hall, 200 East Market Street, Aberdeen, WA 98520.
City of Cosmopolis | City Hall, 1300 1st Street, Cosmopolis, WA 98537.
City of Hoquiam | City Hall, 609 8th Street, Hoquiam, WA 98550.
City of Ocean Shores | City Hall, 585 Point Brown Avenue Northwest, Ocean Shores, WA 98569.
City of Westport | City Hall, 604 North Montesano Street, Westport, WA 98595.
Unincorporated Areas of Grays Harbor County | Grays Harbor Administration Building, 100 West Broadway, Suite 31, Montesano, WA 98563.
Kitsap County, Washington and Incorporated Areas
Docket No.: FEMA-B-1529
City of Bainbridge Island | Department of Planning and Community Development, 280 Madison Avenue North, Bainbridge Island, WA 98110.
City of Bremerton | Public Works and Utilities, 3027 Olympus Drive, Bremerton, WA 98310.
City of Port Orchard | Department of Community Development, 216 Prospect Street, Port Orchard, WA 98366.
City of Poulsbo | City Hall, 200 Northeast Moe Street, Poulsbo, WA 98370.
Unincorporated Areas of Kitsap County | Department of Community Development, 614 Division Street, MS-36, Port Orchard, WA 98366.

[FR Doc. 2016-23472 Filed 9-28-16; 8:45 am]

BILLING CODE 9110-12-P